DEFENSE NUCLEAR FACILITIES SAFETY BOARD

Sunshine Act Notice

AGENCY: Defense Nuclear Facilities Safety Board.

ACTION: Notice of public business meeting.

SUMMARY: Pursuant to the provisions of the Government in the Sunshine Act (5 U.S.C. 552b), notice is hereby given of the Defense Nuclear Facilities Safety Board's (Board) public business meeting described below.

TIME AND DATE: 10:00 a.m.-12:00 p.m., February 21, 2017.

PLACE: Defense Nuclear Facilities Safety Board Headquarters, 625 Indiana Ave. NW., Washington, DC 20004-2901.

STATUS: Open.

MATTERS TO BE CONSIDERED: This public meeting will be conducted pursuant to the Government in the Sunshine Act, the Board's implementing regulations for the Government in the Sunshine Act, and the Board's Operating Procedures. The purpose of this meeting is for Board members to discuss and deliberate on business of the Board. The meeting will proceed in accordance with the meeting agenda, which is posted on the Board's public Web site at www.dnfsb.gov. The Chairman will provide opening remarks followed by discussion led by the members of the Board. The Board will receive comments from the public prior to the close of the meeting. The Chairman will then provide closing remarks. The public is invited to view this business meeting and provide comments. A transcript of the business meeting will be made available by the Board for inspection and viewing by the public on the Board's public Web site. The Board specifically reserves its right to further schedule and otherwise regulate the course of business of this meeting, to recess, reconvene, postpone, or adjourn the meeting, and otherwise exercise its rights under the Atomic Energy Act, the Government in the Sunshine Act and the Board's Operating Procedures.

CONTACT PERSON FOR MORE INFORMATION: Mark Welch, General Manager, Defense Nuclear Facilities Safety Board, 625 Indiana Avenue NW., Suite 700, Washington, DC 20004-2901, (800) 788-4016.

SUPPLEMENTARY INFORMATION: Public participation in the meeting is invited during the public comment period of the agenda. The Board is setting aside time for presentations and comments from the public. Individual oral comments may be limited by the time available, depending on the number of persons who wish to comment.

Dated: February 7, 2017.
Sean Sullivan,
Chairman.

[FR Doc. 2017-02918 Filed 2-9-17; 11:15 am]

BILLING CODE 3670-01-P